ENVIRONMENTAL PROTECTION AGENCY

[EDOCKET ID No.: ORD-2005-0020; FRL-7937-4]

Board of Scientific Counselors, Executive Committee Telecon Meeting—Summer 2005—New Date

AGENCY: Environmental Protection Agency (EPA).

ACTION: Notice to change meeting date.

SUMMARY: Pursuant to the Federal Advisory Committee Act, Public Law 92-463, the Environmental Protection Agency, Office of Research and Development (ORD), gives notice that the date of a public meeting (via conference call) of the Executive Committee of the Board of Scientific Counselors (BOSC) has changed. The meeting was originally scheduled for July 13, 2005, and notice of this meeting was announced in the Federal Register on Thursday, June 30, 2005, 70 FR 125, pages 37839-37841. This meeting has been rescheduled to July 29, 2005. The purpose of the meeting remains the same: to review a draft report of the BOSC Particulate Matter/Ozone Research Subcommittee.

DATES: The meeting (via conference call) will be held on Friday, July 29, 2005 from 1 p.m. to 3 p.m., eastern time, and may adjourn early if all business is finished. Written comments, and requests for the draft agenda or for making oral presentations during the call will be accepted up to 1 business day before the meeting date.

ADDRESSES: Participation in the meeting will be by teleconference only—meeting rooms will not be used. Members of the public may obtain the call-in number and access code for the call from Lorelei Kowalski, whose contact information is listed under the FOR FURTHER INFORMATION CONTACT section of this notice.

FOR FURTHER INFORMATION CONTACT: Ms. Lorelei Kowalski, Designated Federal Officer, via telephone/voice mail at (202) 564-3408, via e-mail at kowalski.lorelei@epa.gov, or by mail at Environmental Protection Agency, Office of Research and Development, Mail Code 8104-R, 1200 Pennsylvania Avenue, NW., Washington, DC 20460.

Dated: July 6, 2005.
Kevin Y. Teichman,
Director, Office of Science Policy.

[FR Doc. 05-13698 Filed 7-11-05; 8:45 am]

BILLING CODE 6560-50-P